ENVIRONMENTAL PROTECTION AGENCY

40 CFR Part 52

[EPA-R06-OAR-2025-0015; FRL-12949-01-R6]

Air Plan Approval; Arkansas; Codification of the State Implementation Plan

AGENCY: Environmental Protection Agency (EPA).

ACTION: Proposed rule.

SUMMARY: Pursuant to the Federal Clean Air Act (CAA or the Act), the Environmental Protection Agency (EPA) is proposing to approve revisions to the Arkansas State Implementation Plan (SIP) submitted to the EPA on February 4, 2025. The revisions address the codification of the Arkansas Pollution Control and Ecology Commission (APC & EC) Rule 19 and Regulations 9, 26, and 31 into the Code of Arkansas Rules (CAR). The revisions are non-substantive and administrative in nature, and do not add or relax any provisions in the approved SIP.

DATES: Written comments must be received on or before September 29, 2025.

ADDRESSES: Submit your comments, identified by Docket No. EPA-R06-OAR-2025-0015, at https://www.regulations.gov or via email to tsui-bowen.alethea@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Alethea Tsui-Bowen, 214-665-7555, tsui-bowen.alethea@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Alethea Tsui-Bowen, EPA Region 6 Office, Infrastructure and Ozone Section, 214-665-7555, tsui-bowen.alethea@epa.gov. We encourage the public to submit comments via https://www.regulations.gov. Please call or email the contact listed above if you need alternative access to material indexed but not provided in the docket.

SUPPLEMENTARY INFORMATION: Throughout this document wherever “we,” “us,” or “our” is used, we mean the EPA.

I. Background

The SIP is a plan that specifies the manner in which the National Air Ambient Quality Standards (NAAQS) will be achieved and maintained within each air quality control region in a state. States must develop and submit a SIP to EPA for approval as required by the CAA. A SIP includes air pollution regulations, control strategies, other means or techniques, and technical analyses developed by the state to help ensure that the state meets the NAAQS. When a state makes changes to the regulations and control strategies in its SIP, such revisions must be submitted to the EPA for approval and incorporation into the federally enforceable SIP.¹

¹ For more about SIPs, please visit https://www.epa.gov/air-quality-implementation-plans.

The Arkansas SIP is the air quality protection strategy implemented by the Arkansas Department of Energy and Environment (ADEE or State) pursuant to the CAA. The SIP consists of laws and rules, nonregulatory and quasi-regulatory measures, and other state enforceable requirements codified at 40 CFR part 52 subpart E. The Arkansas SIP is federally enforceable. All revisions to the SIP require EPA approval as mandated in section 110(l) of the Act.

II. The State's SIP Submission

On February 4, 2025, the State submitted SIP revisions to EPA that address the codification of the APC & EC Rule 19 and Regulations 9, 26, and 31 into the CAR. Rule 19 is the Arkansas Plan of Implementation for Air Pollution Control and includes Chapters 1 (Title, Intent and Purpose), 2 (Definitions), 3 (Protection of the NAAQS), 4 (Minor Source Review), 5 (General Emission Limitations Applicability to Equipment), 6 (Upset and Emergency Conditions), 7 (Sampling, Monitoring, and Reporting Requirements), 9 (Prevention of Significant Deterioration), 10 (Rules for the Control of Volatile Organic Compounds in Pulaski County), 11 (Major Source Permitting Procedures), 13 (Stage 1 Vapor Recovery), 14 (Reserved), 15 (Best Available Retrofit Technology), 18 (Effective Date) and the associated appendices (Insignificant Activities List and NAAQS List).

Regulation 9 is Fee Regulation and includes Chapters 1 (Title), 2 (Definitions), 3 (Permit Fee Payment), 5 (Air Permit Fees), and 9 (Administrative Procedures). Regulation 26 is Regulations of the Arkansas Operating Permit Program and includes Chapters 3 (Requirements for Permit Applicability), 4 (Applications for Permits), 5 (Action of Application), and 6 (Permit Review by the Public, Affected States, and EPA). Regulation 31 is Nonattainment New Source Review Requirements and includes Chapters 1 (Title, Intent, and Purpose), 2 (Definitions), 3 (Preconstruction review), 4 (Applicability Tests), 5 (Reserved), 6 (Reserved), 7 (Reserved), 8 (Actual PALS), and 9 (Effective Date).

III. The EPA's Evaluation

In this SIP revision, codification involves the numbering of the SIP rules and regulations in a manner consistent with the CAR. The revisions are limited to codification and non-substantive administrative edits. For example, Regulation 9 is codified as Part 12, Rule 19 is codified as Part 41, Regulation 26 is codified as Part 42, and Regulation 31 is codified as Part 43. The administrative edits include, for example, “Commission” is replaced with “the Arkansas Pollution Control and Ecology Commission” and “paragraph (E) of this definition” is replaced with “(b)(13)(E) of this section.” The submitted revisions renumber, relabel, edit, and restructure paragraphs within the revised parts. The submitted revisions do not relax, do not delete, and do not introduce new rules to the approved SIP. Due to the non-substantive and administrative nature of these revisions, these SIP revisions are not expected to contribute to violations of the NAAQS in Arkansas. Accordingly, we find the submitted revisions consistent with CAA section 110(l). Additional background and a table detailing each of the revisions to Regulation 9, Rule 19, Regulation 26, and Regulation 31 is provided in the Technical Support Document, available in the docket for this proposed rule. The State's submittal is also posted in the docket.

IV. Proposed Action

We are proposing to approve the revisions to the Arkansas SIP submitted to EPA on February 4, 2025. These revisions codify the corresponding rules and regulations in the Arkansas SIP. We are proposing to approve this SIP submission in accordance with the requirements of section 110 of the Act and EPA's regulations.

V. Incorporation by Reference

In this action, we are proposing to include in a final rule regulatory text that includes incorporation by reference. In accordance with the requirements of 1 CFR 51.5, we are proposing to incorporate by reference revisions to the Arkansas regulations as described in sections II and III of this preamble. We have made, and will continue to make, these documents generally available electronically through www.regulations.gov (please contact the person identified in the FOR FURTHER INFORMATION CONTACT section of this preamble for more information).

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the proposed rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Sulfur oxides, Volatile organic compounds.

Authority: 42 U.S.C. 7401 et seq.

Dated: August 20, 2025.
Walter Mason,
Regional Administrator, Region 6.

[FR Doc. 2025-16483 Filed 8-27-25; 8:45 am]

BILLING CODE 6560-50-P